SURFACE TRANSPORTATION BOARD

Senior Executive Service Performance Review Board (PRB) and Executive Resources Board (ERB) Membership

AGENCY: Surface Transportation Board.

ACTION: Senior Executive Service Performance Review Board (PRB) and Executive Resources Board (ERB) Membership.

Effective immediately, the memberships of the PRB and ERB are as follows:

Performance Review Board

Michelle Schultz, Chairman

Rachel Campbell, Member

Danielle Gosselin, Member

Kristen Monaco, Alternate Member

Executive Resources Board

Karen Hedlund, Chairman

Michele Schultz, Member

Janie Sheng, Member

Anika Cooper, Alternate Member

FOR FURTHER INFORMATION CONTACT: If you have any questions, please contact Jennifer Layne at jennifer.layne@stb.gov or 202-245-0340.

(Authority: 5 U.S.C. 4314(c)(4))

Dated: March 26, 2025.
Jeffrey Herzig,
Clearance Clerk.

[FR Doc. 2025-05564 Filed 3-31-25; 8:45 am]

BILLING CODE 4915-01-P